DEPARTMENT OF HOMELAND SECURITY

Federal Emergency Management Agency

[Docket ID FEMA-2010-0028]

Recovery Fact Sheet RP9580.102, Permanent Relocation

AGENCY: Federal Emergency Management Agency, DHS.

ACTION: Notice of availability.

SUMMARY: This document provides notice of the availability of the final Recovery Fact Sheet RP9580.102, Permanent Relocation, which is being issued by the Federal Emergency Management Agency (FEMA).

DATES: This fact sheet is effective April 14, 2010.

ADDRESSES: This final fact sheet is available online at http://www.regulations.gov under docket ID FEMA-2010-0028 and on FEMA's Web site at http://www.fema.gov. You may also view a hard copy of the final fact sheet at the Office of Chief Counsel, Federal Emergency Management Agency, Room 835, 500 C Street, SW., Washington, DC 20472-3100.

FOR FURTHER INFORMATION CONTACT: Deborah Atkinson, Federal Emergency Management Agency, 500 C Street SW., Washington, DC 20472, 202-646-8146, or via e-mail at Deborah.Atkinson@dhs.gov.

SUPPLEMENTARY INFORMATION:

The purpose of this fact sheet is to provide guidance on eligibility under the Public Assistance Program for the permanent relocation of a disaster damaged facility pursuant to 44 CFR 206.226.

Authority: 42 U.S.C. 5121-5207; 44 CFR part 206.

Robert Farmer,
Deputy Director, Office of Policy and Program Analysis, Federal Emergency Management Agency.

[FR Doc. 2010-10455 Filed 5-4-10; 8:45 am]

BILLING CODE 9111-23-P